SMALL BUSINESS ADMINISTRATION

Reporting and Recordkeeping Requirements Under OMB Review

AGENCY: Small Business Administration.

ACTION: 30-Day notice.

SUMMARY: The Small Business Administration (SBA) is seeking approval from the Office of Management and Budget (OMB) for a new information collection described below. In accordance with the Paperwork Reduction Act and OMB procedures, SBA is publishing this notice to allow all interested member of the public an additional 30 days to provide comments on the proposed collection of information.

DATES: Submit comments on or before December 2, 2024.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis Rich, Curtis.Rich@sba.gov, (202) 205-7030, or from www.reginfo.gov/public/do/PRAMain.

SUPPLEMENTARY INFORMATION: SBA is required by statute to administer the 8(a) Business Development (15 U.S.C. 637(a); 13 CFR 124); Historically Underutilized Business Zone (HUBZone) (15 U.S.C. 657a; 13 CFR 126); Veteran-Owned/Service-Disabled Veteran-Owned (VOSB/SDVOSB) (15 U.S.C. 657f and 657f-1; 13 CFR 128); and Women-Owned/Economically Disadvantaged Women-Owned (WOSB/EDWOSB) (15 U.S.C. 636(m); 13 CFR 127) certification programs. The Small Business Act requires small businesses submit 8(a), HUBZone, VOSB/SDVOSB, and WOSB/EDWOSB certification renewals and annual reviews. SBA's regulations require the submissions for certification renewal/annual review to be submitted electronically. All of the collections are overseen by Government Contracting and Business Development staff. The HUBZone and 8(a) programs require certification renewal of their eligibility annually, while WOSB/EDWOSB and VOSB/SDVOSB require certification renewal every three years. All certification renewals and annual reviews are done electronically. This new information collection will allow for certification compliance in the 8(a), HUBZone, WOSB/EDWOSB, and VOSB/SDVOSB programs through one system. By having one system, the process is streamlined and easier for small businesses submitting for recertification.

Failing to collect the information described above would impede SBA's ability to fulfill its statutory mandates to recertify 8(a), HUBZone, VOSB/SDVOSB, and WOSB/EDWOSB certification compliance in the programs, and maintain and update the list of certified small business concerns.

This PRA submission is a new information collection for SBA Form 2539 and will combine certification renewals and annual reviews into one unified information collection.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-XXXX.

Title: Business Development and Unified Certification Renewal.

Description of Respondents: Small Business concerns applying for SBA certification renewal and annual review in the 8(a), HUBZone, WOSB/EDWOSB, and VOSB/SDVOSB programs.

SBA Form Number: SBA Form 2539.

Estimated Number of Respondents: 21,712.

Estimated Annual Responses: 21,712.

Estimated Annual Hour Burden: 28,949.

Curtis Rich,
Agency Clearance Officer.

[FR Doc. 2024-25461 Filed 10-31-24; 8:45 am]

BILLING CODE 8026-09-P